DEPARTMENT OF COMMERCE

International Trade Administration

[A-570-803]

Heavy Forged Hand Tools From the People's Republic of China: Notice of Final Court Decision and Amended Final Results of Antidumping Duty Administrative Reviews

AGENCY: Import Administration, International Trade Administration, Department of Commerce.

ACTION: Notice of final court decision and amended final results of antidumping duty administrative reviews.

EFFECTIVE DATE: June 23, 2003.

FOR FURTHER INFORMATION CONTACT: Thomas Martin or Mark Manning at (202) 482-3936 or (202) 482-5253, respectively; AD/CVD Enforcement Office IV, Group II, Import Administration, Room 1870, International Trade Administration, U.S. Department of Commerce, 14th Street and Constitution Avenue, NW., Washington, DC 20230.

SUMMARY: On March 18, 2003, the Court of Appeals for the Federal Circuit (CAFC) denied a petition for panel rehearing subsequent to its decision affirming the United States Court of International Trade (CIT), which had sustained the remand determination of the Department of Commerce (the Department) in the administrative review of the antidumping duty orders on heavy forged hand tools (HFHTs) from the People's Republic of China (PRC), covering the period February 1, 1998, through January 31, 1999. See Shandong Huarong General Group Corp., Liaoning Machinery Import & Export Company, and Tianjin Machinery Import & Export Corp. v. United States, No. 02-1095 (Fed. Cir. 2003). As there is now a final court decision, we are amending the amended final results of the review in this matter. We will instruct the Bureau of Customs and Border Protection (BCBP) to liquidate entries subject to these amended final results.

Background

On July 13, 2000, the Department published the final results of its eighth antidumping duty administrative review of HFHTs from the PRC. See Heavy Forged Hand Tools from the People's Republic of China: Notice of Final Results and Partial Rescission of Antidumping Duty Administrative Reviews, 65 FR 43290 (July 13, 2000) (98-99 Final Results). On August 18, 2000, the Department published amended final results of its antidumping duty review of HFHTs from the PRC. See Heavy Forged Hand Tools from the People's Republic of China; Amended Final Results of Antidumping Duty Administrative Reviews, 65 FR 50499 (August 18, 2000) (Amended 98-99 Final Results).

Following the publication of the Amended 98-99 Final Results, Shandong Huarong General Group Corp. (Huarong), Liaoning Machinery Import & Export Company (LMC), and Tianjin Machinery Import & Export Corp. (TMC) challenged certain aspects of our final results and amended final results before the CIT. This litigation resulted in a remand order by the CIT to revise the margin calculation program by redetermining the surrogate value for pallets and recalculating the margin accordingly. See Shandong Huarong General Group Corp., Liaoning Machinery Import & Export Company, and Tianjin Machinery Import & Export Corp. v. United States, 159 F. Supp. 2d 714 (Ct. Int'l Trade, 2001). On September 20, 2001, the Department issued its Final Results Of Redetermination Pursuant to Court Remand, Shandong Huarong General Corp. v. The United States (Remand Redetermination), addressing the ruling of the CIT. The Remand Redetermination can be found at http://www.ia.ita.doc.gov/remands/01-88.htm.

On October 30, 2001, the CIT sustained the redetermination made by the Department pursuant to the remand. See Shandong Huarong General Group Corp., Liaoning Machinery Import & Export Company, and Tianjin Machinery Import & Export Corp. v. United States, 177 F. Supp. 2d 1304 (Ct. Int'l Trade, 2001). The decision of the CIT was subsequently affirmed by the CAFC. See Shandong Huarong General Group Corp., Liaoning Machinery Import & Export Company, and Tianjin Machinery Import & Export Corp. v. United States, No. 02-1095 (Fed. Cir. 2003). A panel rehearing was denied on March 18, 2003.

Amendment to Final Results

The time period for appealing the CAFC's final decision has expired and no party has appealed this decision. As there is now a final and conclusive court decision with respect to litigation for Huarong, LMC, and TMC, we are amending the final results of review to reflect the findings of the remand results, pursuant to section 516A(e) of the Tariff Act of 1930, as amended (the Act). The amended weighted-average margins are:

Manufacturer/exporter | Margin (percent)
Shandong Huarong General Group Corporation:
Axes/Adzes | 55.74
Bars/Wedges | 27.28
Liaoning Machinery Import & Export Corporation: Bars/Wedges | 27.18
Tianjin Machinery Import & Export Corporation:
Axes/Adzes | 55.74
Bars/Wedges | 139.31
Hammers/Sledges | 0.41
Picks/Mattocks | 0.10

Assessment Rates

The Department will determine, and the BCBP shall assess, antidumping duties on all appropriate entries. In accordance with 19 CFR 351.212(b)(1), we have calculated an importer-specific assessment rate for merchandise subject to this review. Where the importer-specific assessment rate is above de minimis, we will instruct the BCBP to assess antidumping duties on that importer's entries of subject merchandise. The Department will issue appropriate assessment instructions directly to the BCBP within 15 days of publication of these amended final results of review. We will direct the BCBP to assess the resulting assessment rates for the subject merchandise on each of the importer's entries during the review period.

Notification

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective order (APO) of their responsibility concerning the disposition of proprietary information disclosed under APO in accordance with 19 CFR 351.305. Timely written notification of return/destruction of APO materials or conversion to judicial protective order is hereby requested. Failure to comply with the regulations and the terms of an APO is a sanctionable violation.

These final results of administrative review are issued and published in accordance with sections 751(a)(1) and 777(i)(1) of the Act (19 U.S.C. 1675(a)(1) and 19 U.S.C. 1677f(i)(1)).

Dated: June 16, 2003.
Joseph A. Spetrini,
Assistant Secretary for Import Administration.

[FR Doc. 03-15657 Filed 6-20-03; 8:45 am]

BILLING CODE 3510-DS-M